DEPARTMENT OF COMMERCE

National Oceanic and Atmospheric Administration

[030602141-7006-46]

California Bay Watershed Education and Training (B-WET) Program, Adult and Community Watershed Education in the Monterey Bay; Extension of Application Deadline

AGENCY: National Oceanic and Atmospheric Administration (NOAA), Commerce.

ACTION: Notice.

SUMMARY: NOAA publishes this notice to extend the solicitation period for applications for the California Bay Watershed Education and Training (B-WET) Program, Adult and Community Watershed Education in the Monterey Bay which was originally announced in the Federal Register on December 27, 2006. The solicitation period for this program was extended to provide the public more time to submit proposals.

DATES: Proposals must be received no later than 5 p.m., Pacific standard time, March 1, 2007.

ADDRESSES: It is strongly encouraged that applications submitted in response to this announcement are submitted through the Grants.gov Web site. Electronic access to the Full Funding Opportunity Announcement for this program is available via the Grants.gov Web site: http://www.grants.gov. Applicants must comply with all requirements contained in the Full Funding Opportunity Announcement. Paper applications (a signed original and two copies) may also be submitted to the following address: Monterey Bay National Marine Sanctuary, 299 Foam Street, Monterey, CA 93940. No facsimile or electronic mail applications will be accepted.

FOR FURTHER INFORMATION CONTACT: Seaberry Nachbar, National Marine Sanctuary Program, 299 Foam Street, Monterey, CA 93940, or by phone at (831) 647-4204.

SUPPLEMENTARY INFORMATION: NOAA publishes this notice to extend the solicitation period on the California Bay Watershed Education and Training (B-WET) Program, Adult and Community Watershed Education in the Monterey Bay which was originally announced in the Federal Register on December 27, 2006 (71 FR 77727). NOAA extends the solicitation period from February 1, 2007 to March 1, 2007 to provide the public more time to submit proposals, as the Full Funding Opportunity was not available for review at the time Federal Register Notice was published. All other requirements for this solicitation remain the same.

Funding Availability

This solicitation announces that approximately $100,000 may be available in FY 2007 in award amounts to be determined by the proposals and available funds. The National Marine Sanctuary Program anticipates that approximately 2-4 grants will be awarded with these funds and that typical project awards will range from $10,000 to $50,000.

Authority: 16 U.S.C. 1440, 15 U.S.C. 1540.

Catalog of Federal Domestic Assistance: 11.429.

Eligibility

Eligible applicants are institutions of higher education, nonprofit, organizations, state or local government agencies, and Indian tribal governments. The Department of Commerce/National Oceanic and Atmospheric Administration (DOC/NOAA) is strongly committed to broadening the participation of historically black colleges and universities, Hispanic serving institutions, tribal colleges and universities, and institution that service undeserved areas.

Cost Sharing Requirements: No cost sharing is required under this program; however, the National Marine Sanctuary Program strongly encourages applicants to share as much of the costs of the award as possible. Funds from other Federal awards are not considered matching funds. The nature of the contribution (cash versus in-kind) and the amount of matching funds will be taken into consideration in the selection process with cash having priority over in-kind as the method of contribution.

Intergovernmental Review

Applications under this program are not subject to Executive Order 12372, “Intergovernmental Review of Federal Programs.”

Evaluation Criteria and Selection Procedures

NOAA published its agency-wide solicitation entitled—Omnibus Notice Announcing the Availability of Grant Funds for Fiscal Year 2006—for projects for Fiscal Year 2006 in the Federal Register on June 30, 2005 (70 FR 37766). The evaluation criteria and selection procedures for projects contained in that omnibus notice are applicable to this solicitation. Copies of this notice are available on the Internet at http://www.ofa.noaa.gov/%7Eamd/SOLINDEX.HTML. Further details on evaluation and selection criteria can be found in the full funding opportunity announcement.

Pre-Award Activities

If applicants incur any costs prior to an award being made, the do so solely at their own risk of not being reimbursed by the Government. Notwithstanding any verbal assurance that may have been received, there is no obligation to the applicant on the part of Department of Commerce to cover pre-award costs.

Limitation of Liability

NOAA must analyze the potential environmental impacts, as required by the National Environmental Policy Act (NEPA), for applicant projects or proposals which are seeking NOAA federal funding opportunities. Detailed information on NOAA compliance with NEPA can be found at the following NOAA NEPA Web site: (http://www.nepa.noaa.gov/), including our NOAA Administrative Order 216-6 for NEPA, (http://www.nepa.noaa.gov/NA0216_6_TOC.pdf), and the Council on Environmental Quality implementation regulations, (http://ceq.eh.doe.gov/nepa/regs/ceq.toc_ceq.htm). Consequently, as part of an applicant's package, and under their description of their program activities, applicants are required to provide detailed information on the activities to be conducted, locations, sites, species and habitat to be affected, possible construction activities, and any environmental concerns that may exist (e.g., the use and disposal of hazardous or toxic chemicals introduction of non-indigenous species, impacts to endangered and threatened species, aquaculture projects, and impacts to coral reef systems). In addition to providing specific information that will serve as the basis for any required impact analyses, applicants may also be requested to assist to NOAA in drafting of an environmental assessment, if NOAA determines an assessment is required. Applicants will also be required to cooperate with NOAA in identifying feasible measures to reduce or avoid any identified adverse environmental impacts of their proposal. The failure to do so shall be grounds for the denial of an application. In some cases if additional information is required after application is selected funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register Notice of December 30, 2004 (69 FR 78389) are applicable to this solicitation.

Paperwork Reduction Act (PRA)

This notification involves collection-of-information requirements subject to the Paperwork Reduction Act. the use of Standard Forms 424, 424A, 424B, and SF-LLL and CD-346 has been approved by the Office of Management and Budget (OMB) under control numbers 0348-0043, 0348-0044, 0348-0040 and 0348-0046 and 0604-0001, respectively. Notwithstanding any other provision of law, no person is required to respond to, nor shall any person be subject to a penalty for failure to comply with, a collection of information subject to the requirements of the PRA unless that collection of information displays a currently valid OMB control number.

Executive Order 12866

It has been determined that this notice is not significant for purposes of Executive Order 12866.

Executive Order 13132 (Federalism)

Prior notice and an opportunity for public comment are not required by the Administrative Procedure Act or any other law for rules concerning public property, loans, grants, benefits, and contracts (5 U.S.C. 553(a)(2)). Because notice and opportunity for comments are not required pursuant to 5 U.S.C. 553(a)(2)). Because notice and opportunity for comments are not required pursuant to 5 U.S.C. 553 or any other law, the analytical requirements of the Regulatory Flexibility Act (5 U.S.C. 601 et seq.) are inapplicable. Therefore, a regulatory flexibility analysis has not been prepared.

Dated: January 26, 2007.
Daniel J. Basta,
Director, National Marine Sanctuary Program, National Ocean Service.

[FR Doc. 07-461 Filed 2-1-07; 8:45 am]

BILLING CODE 3510-NK-M